DEPARTMENT OF TRANSPORTATION

Office of the Secretary

Aviation Proceedings, Agreements Filed the Week Ending November 4, 2005

The following Agreements were filed with the Department of Transportation under sections 412 and 414 of the Federal Aviation Act, as amended (49 U.S.C. 1382 and 1384) and procedures governing proceedings to enforce these provisions. Answers may be filed within 21 days after the filing of the application.

Docket Number: OST-2005-22906.

Date Filed: November 3, 2005.

Parties: Members of the International Air Transport Association.

Subject: TC23/TC123 Mail Vote 457 between Middle East and South East Asia Geneva, September 12-14, 2005. Intended effective date: November 1, 2005.

Renee V. Wright,
Program Manager, Docket Operations, Federal Register Liaison.

[FR Doc. 05-23167 Filed 11-22-05; 8:45 am]

BILLING CODE 4910-62-P